DEPARTMENT OF COMMERCE

National Oceanic and Atmospheric Administration

[RTID 0648-XF322]

Caribbean Fishery Management Council 188th Public Hybrid Meeting

AGENCY: National Marine Fisheries Service (NMFS), National Oceanic and Atmospheric Administration (NOAA), Commerce.

ACTION: Notice of public hybrid meeting (in-person/virtual).

SUMMARY: The Caribbean Fishery Management Council (CFMC) will hold the 188th public hybrid meeting to address the items contained in the tentative agenda included in the SUPPLEMENTARY INFORMATION.

DATES: The 188th CFMC public hybrid meeting will be held on December 3, 2025, from 9 a.m. to 5 p.m., and on December 4, 2025, from 9 a.m. to 4 p.m. AST. The meeting will be held at the Westin Inn Beach Resort and Spa at Frenchman's Reef, 5 Estate Bakkeroe, St. Thomas, USVI 00801.

ADDRESSES: You may join the 188th CFMC public hybrid meeting via Zoom, from a computer, tablet, or smartphone by entering the following address:

Join Zoom Meeting: https://us02web.zoom.us/j/84328130219?pwd=65MKg0lyTe4h1Wv1fAKetKTPEdFAcx.1.

Meeting ID: 843 2813 0219.

Passcode: 856050.

One tap mobile:

+17879667727,,84328130219#,,,,*856050# Puerto Rico

+19399450244,,84328130219#,,,,*856050# Puerto Rico

Join instructions: https://us02web.zoom.us/meetings/84328130219/invitations?signature=b92qQFAEhejZ6qk-OEv5AyZRE1oQnb3iNwa70NWCVk8.

In case there are problems and we cannot reconnect via Zoom, the meeting will continue using GoToMeeting.

You can join the meeting from your computer, tablet, or smartphone. https://global.gotomeeting.com/join/971749317.

You can also dial in using your phone. United States: +1 (408) 650-3123 Access Code: 971-749-317.

FOR FURTHER INFORMATION CONTACT: Miguel A. Rolón, Executive Director, Caribbean Fishery Management Council, 270 Muñoz Rivera Avenue, Suite 401, San Juan, Puerto Rico 00918-1903, telephone: (787) 398-3717.

SUPPLEMENTARY INFORMATION: The following items included in the tentative agenda will be discussed:

December 3, 2025

9 a.m.-9:30 p.m.

—Call to Order

—Roll Call

—Adoption of Agenda

—Consideration of 187th Council Meeting Verbatim Transcription

—Executive Director's Report

9:30 a.m.-10:15 a.m.

—Fishery Management Plans Amendments, Actions and Priorities Update for 2026—María López- Mercer, NOAA Fisheries, SERO

10:15 a.m.-10:30 a.m.

—Coffee Break

10:30 a.m.-11 a.m.

—Southeast Fishery Science Center Updates—Kevin McCarthy, Caribbean Fisheries Branch, NOAA Fisheries SEFSC

11 a.m.-12 p.m.

—Scientific and Statistical Committee Report—Vance Vicente, Chair

12 p.m.-1:30 p.m.

—Lunch Break

1:30 p.m.-2:30 p.m.

—St. Croix, St. Thomas and St. John Fishery Spiny Lobster Overfishing Limits, Acceptable Biological Catches, and Annual Catch Limits—María López-Mercer/Graciela García-Moliner

2:30 p.m.-3 p.m.

—Accountability Measure Options for Pelagic Stocks

3 p.m.-3:15 p.m.

—Coffee Break

3:15 p.m.-4:30 p.m.

—Matrix review of stocks—need for conservation and management—Sarah Stephenson, NOAA SERO

4:30 p.m.-4:45 p.m.

—Public Comment Period (5-minute presentations)

4:45 p.m.-5 p.m.

—Adjourn for the day

5 p.m.-5:30 p.m.

—Closed Session

December 4, 2025

9 a.m.-9:30 a.m.

—IRA Updates—Martha Prada, CFMC IRA Coordinator

9:30 a.m.-10:30 a.m.

—Marine Aquaculture Workshop

—Marine Aquaculture NOAA Guidelines

—Marine Aquaculture Workshop 2026

10:30 a.m.-10:45 a.m.

—Coffee Break

10:45 a.m.-11:30 a.m.

—Outreach and Education Advisory Panel (OEAP) Report—Jannette Ramos, Chair

—CFMC Social Networks—Cristina Olán

—CFMC Liaison Officers Reports

—St. Thomas/St. John, U.S.V.I.—Nicole Greaux

—Puerto Rico—Wilson Santiago

11:30 a.m.-12 p.m.

—Letter sent to NOAA on E.O. 14276 Restoring America's Seafood Competitiveness

12 p.m.-1:30 p.m.

—Lunch Break

1:30 p.m.-2:15 p.m.

—District Advisory Panel Reports (15 mins each)

—St. Thomas, U.S.V.I.—Julian Magras, Chair

—St. Croix, U.S.V.I.—Gerson Martinez, Chair

—Puerto Rico—Nelson Crespo, Chair

2:15 p.m.-2:45 p.m.

—Enforcement Reports (10 minutes each)

—Puerto Rico DNER

—U.S.V.I. DPNR

—U.S. Coast Guard

—NOAA Fisheries Office of Law Enforcement

2:45 p.m.-3:15 p.m.

—Upcoming SEDAR 103 Procedural Workshop Updates

3:15 p.m.-3:30 p.m.

—Advisory Bodies Membership

3:30 p.m.-3:45 p.m.

—Other Business

3:45 p.m.-4 p.m.

—Public Comment Period (5-minute presentations)

—Next Meetings

4 p.m.

—Adjourn

Note (1): Other than starting time and dates of the meetings, the established times for addressing items on the agenda may be adjusted as necessary to accommodate the timely completion of discussion relevant to the agenda items. To further accommodate discussion and completion of all items on the agenda, the meeting may be extended from, or completed prior to the date established in this notice. Changes in the agenda will be posted to the CFMC website, Facebook, Twitter, and Instagram as practical.

Note (2): Financial disclosure forms are available for inspection at this meeting, as per 50 CFR part 601.

The order of business may be adjusted as necessary to accommodate the completion of agenda items. The meeting will begin on December 3, 2025 at 9 a.m. AST, and will end on December 4, 2025 at 4 p.m. AST. Other than the start time on the first day of the meeting, interested parties should be aware that discussions may start earlier or later than indicated in the agenda, at the discretion of the Chair.

Special Accommodations

For any additional information on this public virtual meeting, please contact Diana Martino, Caribbean Fishery Management Council, 270 Muñoz Rivera Avenue, Suite 401, San Juan, Puerto Rico 00918-1903, telephone: (787) 226-8849.

Authority: 16 U.S.C. 1801 et seq.

Dated: November 14, 2025.
Rey Israel Marquez,
Acting Deputy Director, Office of Sustainable Fisheries, National Marine Fisheries Service.

[FR Doc. 2025-20172 Filed 11-17-25; 8:45 am]

BILLING CODE 3510-22-P